CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled NCCC Project Sponsor Application Title for review and approval in accordance with the Paperwork Reduction Act of 1995, Public Law 104-13, (44 U.S.C. Chapter 35). Copies of this ICR, with applicable supporting documentation, may be obtained by calling the Corporation for National and Community Service, Colleen Clay (202) 606.7561 or email to cclay@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on Tuesday, July 17, 2012. This comment period ended 8-15-12. No public comments were received from this Notice.

Description: CNCS is seeking approval of NCCC Project Sponsor Application, which is used by eligible non-profit and governmental organizations to apply to host an NCCC team of 8-12 AmeriCorps NCCC members for a period of up to eight weeks to perform direct service to address local community needs.

Type of Review: Renewal.

Agency: Corporation for National and Community Service.

Title: NCCC Project Sponsor Application.

OMB Number: 3045-0010.

Agency Number: 3045.

Affected Public: Non-profits, community organizations.

Total Respondents: 1200 annually.

Frequency: Rolling application process.

Average Time per Response: 7.5 hours

Estimated Total Burden Hours: 9000 hours.

Total Burden Cost (capital/startup): None.

Total Burden Cost (operating/maintenance): None.

Dated: January 25, 2013.
Kate Raftery,
Director, National Civilian Community Corps.

[FR Doc. 2013-02311 Filed 2-1-13; 8:45 am]

BILLING CODE 6050-$$-P